DEPARTMENT OF ENERGY

Federal Energy Regulatory Commission

Combined Notice of Filings #1

Take notice that the Commission received the following electric rate filings:

Docket Numbers: ER10-3193-012; ER11-2042-013; ER11-2041-013; ER10-2924-012; ER10-2718-028; ER10-2538-009; ER14-1317-008; ER10-3028-004; ER17-2074-002; ER17-2364-002; ER10-2719-028; ER16-2462-007; ER14-2500-008; ER14-2498-008; ER10-2961-013; ER10-3099-020.

Applicants: Brooklyn Navy Yard Cogeneration Partners, L.P., Seneca Energy II, LLC, Innovative Energy Systems, LLC, Kleen Energy Systems, LLC, Cogen Technologies Linden Venture, L.P., Panoche Energy Center, LLC, Sunshine Gas Producers, LLC, Elk Hills Power, LLC, Burney Forest Products, A Joint Venture, St. Joseph Energy Center, LLC, East Coast Power Linden Holding, L.L.C., Oregon Clean Energy, LLC, Newark Energy Center, LLC, EIF Newark, LLC, Edgecombe Genco, LLC, RC Cape May Holdings, LLC.

Description: Notice of Non-Material Change in Status of the Ares EIF Notice Parties.

Filed Date: 5/14/18.

Accession Number: 20180514-6208.

Comments Due: 5 p.m. ET 6/4/18.

Docket Numbers: ER17-1414-002.

Applicants: DTE Electric Company.

Description: Compliance filing: Reactive Revenue Compliance Filing to be effective 6/1/2017.

Filed Date: 5/15/18.

Accession Number: 20180515-5111.

Comments Due: 5 p.m. ET 6/5/18.

Docket Numbers: ER18-1580-000.

Applicants: Black Hills/Colorado Electric Utility Company.

Description: eTariff filing per 1450: Response to Order to Show Cause under EL18-76 to be effective 3/21/2018.

Filed Date: 5/11/18.

Accession Number: 20180511-5239.

Comments Due: 5 p.m. ET 6/1/18.

Docket Numbers: ER18-1583-000.

Applicants: Black Hills Power, Inc.

Description: eTariff filing per 1450: Response to Order to Show Cause under EL18-65 to be effective 3/21/2018.

Filed Date: 5/14/18.

Accession Number: 20180514-5014.

Comments Due: 5 p.m. ET 6/4/18.

Docket Numbers: ER18-1585-000.

Applicants: Rockland Electric Company, PJM Interconnection, L.L.C.

Description: eTariff filing per 1450: RECO submits revisions to OATT, Att. H-12, Schedules 7 & 8 re: EL18-111 to be effective 12/31/9998.

Filed Date: 5/14/18.

Accession Number: 20180514-6002.

Comments Due: 5 p.m. ET 6/4/18.

Docket Numbers: ER18-1588-000.

Applicants: New York State Electric & Gas Corporation, Rochester Gas and Electric Corporation, New York Independent System Operator, Inc.

Description: eTariff filing per 1450: NYSEG and RG&E response to show cause order re: Corporate income tax rate change to be effective 1/1/2018.

Filed Date: 5/14/18.

Accession Number: 20180514-6027.

Comments Due: 5 p.m. ET 6/4/18.

Docket Numbers: ER18-1591-000.

Applicants: FirstEnergy Solutions Corp.

Description: Request of FirstEnergy Solutions Corp. for Authorization to Make Wholesale Power Sales to an Affiliate.

Filed Date: 5/14/18.

Accession Number: 20180514-6043.

Comments Due: 5 p.m. ET 6/4/18.

Docket Numbers: ER18-1595-000.

Applicants: Monongahela Power Company, The Potomac Edison Company, West Penn Power Company, PJM Interconnection, L.L.C.

Description: eTariff filing per 1450: APS submits revisions to OATT Attachment H-11 re Tax Reform EL18-101 to be effective 3/21/2018.

Filed Date: 5/14/18.

Accession Number: 20180514-6075.

Comments Due: 5 p.m. ET 6/4/18.

Docket Numbers: ER18-1596-000.

Applicants: Sky River LLC.

Description: eTariff filing per 1450: Response to Order to Show Cause to be effective 3/21/2018.

Filed Date: 5/14/18.

Accession Number: 20180514-6089.

Comments Due: 5 p.m. ET 6/4/18.

Docket Numbers: ER18-1598-000.

Applicants: Central Hudson Gas & Electric Corporation, New York Independent System Operator, Inc.

Description: eTariff filing per 1450: Central Hudson response to show cause order re: Corporate income tax rate change to be effective 7/1/2018.

Filed Date: 5/14/18.

Accession Number: 20180514-6104.

Comments Due: 5 p.m. ET 6/4/18.

Docket Numbers: ER18-1599-000.

Applicants: Ohio Valley Electric Corporation.

Description: eTariff filing per 1450: Response to Order to Show Cause under EL18-105 to be effective 3/21/2018.

Filed Date: 5/14/18.

Accession Number: 20180514-6106.

Comments Due: 5 p.m. ET 6/4/18.

Docket Numbers: ER18-1600-000.

Applicants: Alcoa Power Generating Inc.

Description: eTariff filing per 1450: Response to Order to Show Cause (Long Sault Division OATT) under EL18-72 to be effective 3/21/2018.

Filed Date: 5/14/18.

Accession Number: 20180514-6112.

Comments Due: 5 p.m. ET 6/4/18.

Docket Numbers: ER18-1601-000.

Applicants: Alcoa Power Generating Inc.

Description: eTariff filing per 1450: Response to Order to Show Cause (Tapoco Division OATT) under EL18-73 to be effective 3/21/2018.

Filed Date: 5/14/18.

Accession Number: 20180514-6118.

Comments Due: 5 p.m. ET 6/4/18.

Docket Numbers: ER18-1602-000.

Applicants: Cube Yadkin Transmission LLC.

Description: eTariff filing per 1450: Response to Order to Show Cause to be effective 3/21/2018.

Filed Date: 5/14/18.

Accession Number: 20180514-6120.

Comments Due: 5 p.m. ET 6/4/18.

Docket Numbers: ER18-1603-000.

Applicants: Nevada Power Company.

Description: eTariff filing per 1450: OATT Tax Rate Changes in Compliance with Show Cause Order 03/18/18 to be effective 3/21/2018.

Filed Date: 5/14/18.

Accession Number: 20180514-6121.

Comments Due: 5 p.m. ET 6/4/18.

Docket Numbers: ER18-1604-000.

Applicants: Cogentrix of Alamosa, LLC.

Description: § 205(d) Rate Filing: Notification of Succession and Update to Tariff to be effective 5/15/2018.

Filed Date: 5/14/18.

Accession Number: 20180514-6160.

Comments Due: 5 p.m. ET 6/4/18.

Docket Numbers: ER18-1605-000.

Applicants: Diablo Winds, LLC.

Description: § 205(d) Rate Filing: Market-Based Rate Notice of Change in Status to be effective 5/14/2018.

Filed Date: 5/14/18.

Accession Number: 20180514-6177.

Comments Due: 5 p.m. ET 6/4/18.

Docket Numbers: ER18-1606-000.

Applicants: Midcontinent Independent System Operator, Inc.

Description: Notice of cancellation of Adjacent Balancing Authority Coordination Agreement (Rate Schedule No. 29) of Midwest Independent Transmission System Operator, Inc.

Filed Date: 5/15/18.

Accession Number: 20180515-5168.

Comments Due: 5 p.m. ET 6/5/18.

Docket Numbers: ER18-1607-000.

Applicants: Midcontinent Independent System Operator, Inc.

Description: § 205(d) Rate Filing: 2018-05-15 Tariff revisions to clarify Manual Redispatch Processes to be effective 5/16/2018.

Filed Date: 5/15/18.

Accession Number: 20180515-5175.

Comments Due: 5 p.m. ET 6/5/18.

Docket Numbers: ER18-1608-000.

Applicants: Portland General Electric Company

Description: Compliance filing: Order 842 Filing to be effective 5/15/2018.

Filed Date: 5/15/18.

Accession Number: 20180515-5179.

Comments Due: 5 p.m. ET 6/5/18.

Docket Numbers: ER18-1609-000.

Applicants: Public Service Company of New Mexico.

Description: Compliance filing: Order 842 Compliance Filing to be effective 5/15/2018.

Filed Date: 5/15/18.

Accession Number: 20180515-5183.

Comments Due: 5 p.m. ET 6/5/18.

Docket Numbers: ER18-1610-000.

Applicants: PJM Interconnection, L.L.C.

Description: § 205(d) Rate Filing: First Revised ISA, SA No. 4776, Queue No. AB1-014/AC2-066 to be effective 4/16/2018.

Filed Date: 5/15/18.

Accession Number: 20180515-5190.

Comments Due: 5 p.m. ET 6/5/18.

Docket Numbers: ER18-1611-000.

Applicants: Midcontinent Independent System Operator, Inc.

Description: Notification of Tariff Discrepancy and Request for Limited Tariff Waiver of Midcontinent Independent System Operator, Inc.

Filed Date: 5/15/18.

Accession Number: 20180515-5208.

Comments Due: 5 p.m. ET 6/5/18.

Docket Numbers: ER18-1612-000.

Applicants: Southern California Edison Company.

Description: Compliance filing: SCE Compliance Filing Amended WDAT GIP—Order No. 842 to be effective 5/15/2018.

Filed Date: 5/15/18.

Accession Number: 20180515-5213.

Comments Due: 5 p.m. ET 6/5/18.

Docket Numbers: ER18-1613-000.

Applicants: Alcoa Power Generating Inc.

Description: Compliance filing: Order No. 842 Compliance Filing (Long Sault Divison OATT) to be effective 5/15/2018.

Filed Date: 5/15/18.

Accession Number: 20180515-5215.

Comments Due: 5 p.m. ET 6/5/18.

Docket Numbers: ER18-1614-000.

Applicants: Alcoa Power Generating Inc.

Description: Compliance filing: Order No. 842 Compliance Filing (Tapoco Divison OATT) to be effective 5/15/2018.

Filed Date: 5/15/18.

Accession Number: 20180515-5216.

Comments Due: 5 p.m. ET 6/5/18.

Docket Numbers: ER18-1615-000.

Applicants: NorthWestern Corporation.

Description: § 205(d) Rate Filing: SA 31 18th Rev—NITSA with Phillips 66 Company to be effective 7/1/2018.

Filed Date: 5/15/18.

Accession Number: 20180515-5227.

Comments Due: 5 p.m. ET 6/5/18.

Docket Numbers: ER18-1616-000.

Applicants: California Independent System Operator Corporation.

Description: Compliance filing: 2018-05-15 Frequency Response FERC Order 842 Compliance to be effective 5/15/2018.

Filed Date: 5/15/18.

Accession Number: 20180515-5228.

Comments Due: 5 p.m. ET 6/5/18.

Docket Numbers: ER18-1617-000.

Applicants: Alabama Power Company.

Description: Compliance filing: Order No. 842 Compliance Filing to be effective 5/15/2018.

Filed Date: 5/15/18.

Accession Number: 20180515-5233.

Comments Due: 5 p.m. ET 6/5/18.

Docket Numbers: ER18-1618-000.

Applicants: Arizona Public Service Company.

Description: Compliance filing: Primary Frequency Response to be effective 5/15/2018.

Filed Date: 5/15/18.

Accession Number: 20180515-5236.

Comments Due: 5 p.m. ET 6/5/18.

Docket Numbers: ER18-1619-000.

Applicants: PJM Interconnection, L.L.C.

Description: § 205(d) Rate Filing: Original ISA SA No. 5071; Queue No. AB1-132 to be effective 4/16/2018.

Filed Date: 5/15/18.

Accession Number: 20180515-5239.

Comments Due: 5 p.m. ET 6/5/18.

Docket Numbers: ER18-1620-000.

Applicants: New York Independent System Operator, Inc.

Description: Compliance filing: Compliance filing Order No. 842 tariff revisions to be effective 5/15/2018.

Filed Date: 5/15/18.

Accession Number: 20180515-5241.

Comments Due: 5 p.m. ET 6/5/18.

Docket Numbers: ER18-1621-000.

Applicants: Pacific Gas and Electric Company.

Description: Compliance filing: FERC Order No. 842 Amendment to Wholesale Distribution Tariff GIP, SGIA, LGIA to be effective 5/15/2018.

Filed Date: 5/15/18.

Accession Number: 20180515-5242.

Comments Due: 5 p.m. ET 6/5/18.

Docket Numbers: ER18-1622-000.

Applicants: PJM Interconnection, L.L.C.

Description: Tariff Cancellation: Notice of Cancellation of Service Agreement No. 4038; Queue No. Z2-001 to be effective 5/29/2018.

Filed Date: 5/15/18.

Accession Number: 20180515-5243.

Comments Due: 5 p.m. ET 6/5/18.

Docket Numbers: ER18-1623-000.

Applicants: Louisville Gas and Electric Company.

Description: Compliance filing: Order No. 842 Compliance Filing to be effective 5/15/2018.

Filed Date: 5/15/18.

Accession Number: 20180515-5244.

Comments Due: 5 p.m. ET 6/5/18.

Docket Numbers: ER18-1624-000.

Applicants: Florida Power & Light Company.

Description: § 205(d) Rate Filing: FPL-FPUC Revisions to the NITSA No. 337 to be effective 4/16/2018.

Filed Date: 5/15/18.

Accession Number: 20180515-5249.

Comments Due: 5 p.m. ET 6/5/18.

Docket Numbers: ER18-1625-000.

Applicants: Florida Power & Light Company.

Description: Compliance filing: FPL Order No. 842 Compliance Filing to be effective 5/15/2018.

Filed Date: 5/15/18.

Accession Number: 20180515-5250.

Comments Due: 5 p.m. ET 6/5/18.

Docket Numbers: ER18-1626-000.

Applicants: Sky River LLC.

Description: Compliance filing: Sky River LLC Order No. 842 Compliance Filing to be effective 5/15/2018.

Filed Date: 5/15/18.

Accession Number: 20180515-5251.

Comments Due: 5 p.m. ET 6/5/18.

Docket Numbers: ER18-1627-000.

Applicants: Ohio Valley Electric Corporation.

Description: Compliance filing: Order No. 842 Compliance Filing to be effective 5/15/2018.

Filed Date: 5/15/18.

Accession Number: 20180515-5267.

Comments Due: 5 p.m. ET 6/5/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 15, 2018.
Nathaniel J. Davis, Sr.,
Deputy Secretary.

[FR Doc. 2018-10725 Filed 5-18-18; 8:45 am]

BILLING CODE 6717-01-P